DEPARTMENT OF VETERANS AFFAIRS

[OMB Control No. 2900-0912]

Agency Information Collection Activity: Veterans Engagement Action Center (VEAC) Surveys

AGENCY: Veterans Experience Office, Department of Veterans Affairs.

ACTION: Notice.

SUMMARY: The Veterans Experience Office (VEO), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Comments must be received on or before July 7, 2025.

ADDRESSES: Comments must be submitted through www.regulations.gov.

FOR FURTHER INFORMATION CONTACT:

Program-Specific information: Todd Stawicki, 908-768-5372, todd.stawicki@va.gov.

VA PRA information: Dorothy Glasgow, 202-461-1084, VAPRA@va.gov.

SUPPLEMENTARY INFORMATION: Under the PRA of 1995, Federal agencies must obtain approval from the Office of Management and Budget (OMB) for each collection of information they conduct or sponsor. This request for comment is being made pursuant to section 3506(c)(2)(A) of the PRA.

With respect to the following collection of information, VEO invites comments on: (1) whether the proposed collection of information is necessary for the proper performance of VEO's functions, including whether the information will have practical utility; (2) the accuracy of VEO's estimate of the burden of the proposed collection of information; (3) ways to enhance the quality, utility, and clarity of the information to be collected; and (4) ways to minimize the burden of the collection of information on respondents, including through the use of automated collection techniques or the use of other forms of information technology.

Title: Veterans Engagement Action Center (VEAC) Surveys.

OMB Control Number: 2900-0912. https://www.reginfo.gov/public/do/PRASearch (Once at this link, you can enter the OMB Control Number to find the historical versions of this Information Collection).

Type of Review: Revision of a currently approved collection.

Abstract: Veterans Experience Action Center (VEAC) is a Veterans Affairs (VA) program established to proactively assist Veterans in a selected state with a one-stop resource for all their needs. The VEAC brings together VA benefits, health care and other resources in partnership with state VA resources.

The VEAC gathers feedback from Veterans, Active Military, Guard/Reservist, Family members, caregivers, providers, and survivors. The VEAC then provides that feedback to VA leaders to measure the success of the outreach event and measure the ease, effectiveness, emotion, and trust from the participants as they exit.

The surveys will further allow the Veterans Experience Office (VEO) to measure whether the needs of the participants were met. Additional areas where the survey results will impact:

• Identifies gaps and challenges in health care, benefits, and service delivery.

• Identifies areas for how VA can best support local efforts in a holistic fashion.

• Identifies areas where there may be barriers to access, and outreach tailored to local communities.

Per FY2021 MILCON House report 116-445, the Committee directs the VA to provide quarterly reports on the status of the implementation of the VEAC pilot program; the effectiveness of the pilot program at reaching Veterans, particularly those in need, and increasing utilization of VA services:

• Congress (Quarterly Congressional Tracking Reports (CTRs).

VEAC surveys afford VEAC participants the ability to provide feedback to VA and allow the customer to share their experiences. VEO uses the customer's feedback to enhance and increase outreach and engagement efforts and determine the direct value of our efforts.

The surveys and its delivery are an innovative approach to measure and improve customer experience based on the “voice of the Veteran.” Through the use of the VSignals digital platform, VEO can identify gaps and challenges in the community, provide information on VA programs, increase access and outreach, identify what is and what is not working, and determine how VA can best support local community efforts in support of Veterans, families, caregivers, and survivors.

Survey respondents will be Veterans, Active Military, Guard/Reservist, family members, caregivers, and survivors that attend a VEAC event. Different surveys may be administered participants of events:

1. VEAC Exit Survey: Outreach event staff will verbally administer the survey to event attendees as the last step in the overall event process. The outreach staff will fill out the web-based survey on behalf of the outreach event participant.

2. VEAC Email Survey: A survey will be sent via email to event attendees that were not able to take the VEAC Exit Survey. The email survey will not be sent to event attendees that opted out of the VEAC Exit Survey.

Affected Public: Individuals.

Estimated Annual Burden: 1,000 hours.

Estimated Average Burden per Respondent: 5 minutes.

Frequency of Response: On occasion.

Estimated Number of Respondents: 12,000.

Authority: 44 U.S.C. 3501 et seq.

Shunda Willis,
Acting, VA PRA Clearance Officer, (Alt.), Office of Enterprise and Integration/Data Governance Analytics, Department of Veterans Affairs.

[FR Doc. 2025-07771 Filed 5-2-25; 8:45 am]

BILLING CODE 8320-01-P